NUCLEAR REGULATORY COMMISSION

[NRC-2015-0136]

Information Collection: NRC Generic Letter 2015-XX, Monitoring of Neutron-Absorbing Materials in Spent Fuel Pools

AGENCY: Nuclear Regulatory Commission.

ACTION: Proposed information collection; request for comment.

SUMMARY: The U.S. Nuclear Regulatory Commission (NRC) invites the public to comment on the Office of Management and Budget (OMB) approval for a new collection for information. NRC is required to publish this notice in the Federal Register under the provisions of the Paperwork Reduction Act of 1995. The information collection is entitled “NRC Generic Letter 2015-XX, Monitoring of Neutron-Absorbing Materials in Spent Fuel Pools.”

DATES: Submit comments by August 3, 2015. Comments received after this date will be considered if it is practical to do so, but the Commission is able to ensure consideration only for comments received on or before this date.

ADDRESSES: You may submit comments by any of the following methods:

• Federal Rulemaking Web site: Go to http://www.regulations.gov and search for Docket ID NRC-2015-0136. Address questions about NRC dockets to Carol Gallagher; telephone: 301-415-3463; email: Carol.Gallagher@nrc.gov. For technical questions, contact the individual listed in the FOR FURTHER INFORMATION CONTACT section of this document.

• Mail comments to: Tremaine Donnell, Office of Information Services, Mail Stop: T-5 F53, U.S. Nuclear Regulatory Commission, Washington, DC 20555-0001.

For additional direction on obtaining information and submitting comments, see “Obtaining Information and Submitting Comments” in the SUPPLEMENTARY INFORMATION section of this document.

FOR FURTHER INFORMATION CONTACT: Tremaine Donnell, Office of Information Services, U.S. Nuclear Regulatory Commission, Washington, DC 20555-0001; telephone: 301-415-6258; email: INFOCOLLECTS.Resource@NRC.GOV.

SUPPLEMENTARY INFORMATION:

I. Obtaining Information and Submitting Comments

A. Obtaining Information

Please refer to Docket ID NRC-2015-0136 when contacting the NRC about the availability of information for this action. You may obtain publicly-available information related to this action by any of the following methods:

• Federal rulemaking Web site: Go to http://www.regulations.gov and search for Docket ID NRC-2015-0136. A copy of the collection of information and related instructions may be obtained without charge by accessing Docket ID NRC-2015-0136 on this Web site.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML14181B123. The supporting statement is in ADAMS under ML15138A290.

• NRC's PDR: You may examine and purchase copies of public documents at the NRC's PDR, Room O1-F21, One White Flint North, 11555 Rockville Pike, Rockville, Maryland 20852.

• NRC's Clearance Officer: A copy of the collection of information and related instructions may be obtained without charge by contacting NRC's Clearance Officer, Tremaine Donnell, Office of Information Services, U.S. Nuclear Regulatory Commission, Washington, DC 20555-0001; telephone: 301-415-6258; email: INFOCOLLECTS.Resource@NRC.GOV.

B. Submitting Comments

Please include Docket ID NRC-2015-0136 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

In accordance with the Paperwork Reduction Act of 1995 (44 U.S.C. Chapter 35), the NRC is requesting public comment on its intention to request the OMB's approval for the information collection summarized below.

1. The title of the information collection: NRC Generic Letter 2015-XX, “Monitoring of Neutron-Absorbing Materials in Spent Fuel Pools”.

2. OMB approval number: An OMB control number has not yet been assigned to this proposed information collection.

3. Type of submission: New.

4. The form number, if applicable: Not applicable.

5. How often is the collection required or requested: One-time.

6. Who will be required or asked to respond: All nuclear power reactors with a license issued under Title 10 of the Code of Federal Regulations (10 CFR) Part 50, “Domestic Licensing of Production and Utilization Facilities,” except those that have permanently ceased operations with all reactor fuel removed from on-site spent fuel pool storage; all holders of an operating license for a non-power reactor (research reactor, test reactor, or critical assembly) under 10 CFR part 50 who have a reactorpool, fuel storage pool, or other wet locations designed for the purpose of fuel storage, except those who have permanently ceased operations with all reactor fuel removed from on-site wet storage.

7. The estimated number of annual responses: 112.

8. The estimated number of annual respondents: 112.

9. The estimated number of hours needed annually to comply with the information collection requirement or request: 12,900 hours.

10. Abstract: Neutron-absorbing materials installed in the spent fuel pool that are credited for maintaining subcriticality must be able to perform their neutron-absorbing safety function during both normal operating conditions and design basis events. Monitoring of neutron-absorbing materials is intended to identify when degradation may affect the ability to perform the neutron-absorbing safety function, so that appropriate corrective action can be taken. The NRC is requesting information to determine if (1) addressees have adequate neutron-absorbing material monitoring programs in place to ensure compliance with the regulations, and (2) the agency should take additional regulatory action. The NRC is required by the Atomic Energy Act to verify that licensees are in compliance with the regulations and license conditions. Compliance with the regulations provides reasonable assurance of public health and safety. The NRC has authority to collect this type of information pursuant to Title 10 of the Code of Federal (10 CFR) 50.54(f). The NRC staff may at any time require a licensee to submit additional information to enable the Commission to determine if the license to operate a nuclear facility needs to be modified, revoked, or suspended. The Commission uses the information collected to verify that licensees meet the NRC regulations and requirements of their license.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated at Rockville, Maryland, this 29th day of May 2015.
For the Nuclear Regulatory Commission.
Tremaine Donnell,
NRC Clearance Officer, Office of Information Services.

[FR Doc. 2015-13631 Filed 6-3-15; 8:45 am]

BILLING CODE 7590-01-P